NATIONAL ARCHIVES AND RECORDS ADMINISTRATION

Agency Information Collection Activities: Proposed Collection; Comment Request

AGENCY: National Archives and Records Administration (NARA).

ACTION: Notice.

SUMMARY: NARA is giving public notice that the agency proposes to request use of quoted reproduction orders for various types of records found in their holdings. These include, but are not limited to, WW1 Draft Registration Cards, Prison Records, and Naturalization Records. The public is invited to comment on the proposed information collection pursuant to the Paperwork Reduction Act of 1995.

DATES: Written comments must be received on or before February 6, 2006 to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collection and supporting statement should be directed to Tamee Fechhelm at telephone number 301-837-1694, or fax number 301-837-3213.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents; and (e) whether small businesses are affected by this collection. The comments that are submitted will be summarized and included in the NARA request for Office of Management and Budget (OMB) approval. All comments will become a matter of public record. In this notice, NARA is soliciting comments concerning the following information collection:

Title: Online Reproduction Orders for National Archives Records.

OMB number: 3095-NEW.

Agency form number: N/A.

Type of review: Regular.

Affected public: Individuals or households.

Estimated number of respondents: 13,270.

Estimated time per response: 10 minutes.

Frequency of response: On occasion.

Estimated total annual burden hours: 2,680 hours.

Abstract: In December, 2003, NARA launched Order Online!, its online ordering mechanism. With the availability of an Internet-based ordering system (Order Online!), NARA has made accessible online certain reproduction order forms (replicas of the NATF Series 80 Forms and the NATF 36). In the near future, NARA plans to make available custom orders for the remaining types of reproduction services, to allow researchers to submit reproduction orders and remit payment electronically.

The information that NARA proposes to collect for quoted reproduction orders includes the descriptive information (information necessary to search for the records), payment information (e.g., credit card type, credit card number, and expiration date), customer name, shipping and billing address, and phone number. NARA also proposes to offer customers the option of submitting their e-mail address as a means of facilitating communication such as order confirmation, status updates, and issue handling.

Dated: November 30, 2005.
L. Reynolds Cahoon,
Assistant Archivist for Information Services.

[FR Doc. E5-6978 Filed 12-6-05; 8:45 am]

BILLING CODE 7515-01-P